DEPARTMENT OF JUSTICE

Antitrust Division

Notice Pursuant to the National Cooperative Research and Production Act of 1993—Portland Cement Association

Notice is hereby given that, on July 22, 2002, pursuant to Section 6(a) of the National Cooperative Research and Production Act of 1993, 15 U.S.C. 4301 et seq. (“the Act”), Portland Cement Association has filed written notification simultaneously with the Attorney General and the Federal Trade Commission disclosing changes in its membership status. The notifications were filed for the purpose of extending the Act's provisions limiting the recovery of antitrust plaintiffs to actual damages under specified circumstances. Specifically, Inland Cement Limited, Edmonton, Alberta, CANADA has changed its name to Lehigh Inland Cement Limited; Krup Polysius Corp., Atlanta, GA (an Associate Member) has changed its name to Polysius Corp.; BMH Americans, Dallas, TX (an Associate Member) has changed its name to Claudius Peters (Americas); and Baker Refractories, York, PA (an Associate Member) has changed its name to LWB Refractories.

No other changes have been made in either the membership or planned activity of the group research project. Membership in this group research project remains open, and Portland Cement Association intends to file additional written notification disclosing all changes in membership.

On January 7, 1985, Portland Cement Association filed its original notification pursuant to Section 6(a) of the Act. The Department of Justice published a notice in the Federal Register pursuant to Section 6(b) of the Act on February 5, 1985 (50 FR 5015).

The last notification was filed with the Department on March 5, 2002. A notice was published in the Federal Register pursuant to Section 6(b) of the Act on April 4, 2002 (67 FR 16124).

Constance K. Robinson,
Director of Operations, Antitrust Division.

[FR Doc. 02-20411 Filed 8-12-02; 8:45 am]

BILLING CODE 4410-11-M